DEPARTMENT OF EDUCATION

[CFDA No. 84.031S]

Developing Hispanic-Serving Institutions Program

AGENCY: Office of Postsecondary Education, Department of Education.

ACTION: Notice of intent to fund down the fiscal year (FY) 2007 slate for the Developing Hispanic-Serving Institutions (HSI) Program.

SUMMARY: The Secretary intends to use the grant slate developed for the HSI Program authorized by Title V of the Higher Education Act of 1965, as amended, in FY 2007 to make new Individual Development grant awards in FY 2008. The Secretary takes this action because a significant number of high-quality applications remain on last year's grant slate. The Administration has requested $94,914,000 for the HSI program for FY 2008, of which we intend to use an estimated $13,408,000 for new awards. The actual level of funding for the FY 2008 program, if any, depends on final Congressional action. No Cooperative Development grant awards will be made from the FY 2008 appropriation for this program.

The College Cost Reduction and Access Act of 2007 (CCRAA) has provided $100 million for grants to Hispanic-serving institutions for Science, Technology, Engineering, or Mathematics (STEM) and articulation programs in each of the FYs 2008 and 2009. Further information about the criteria and priorities applicable to these awards and the Secretary's plans for conducting the FY 2008 competition under the CCRAA, including workshops, will be forthcoming.

FOR FURTHER INFORMATION CONTACT: Carnisia M. Proctor, U.S. Department of Education, 1990 K Street, NW., 6th Floor, Washington, DC 20006-8513. Telephone: (202) 502-7606 or via Internet: carnisia.proctor@ed.gov.

If you use a telecommunications device for the deaf (TDD), you can call the Federal Relay Service (FRS) at 1-800-877-8339.

Individuals with disabilities can obtain this document in an alternative format (e.g., Braille, large print, audiotape, or computer diskette) on request to the contact person listed under FOR FURTHER INFORMATION CONTACT.

SUPPLEMENTARY INFORMATION: On July 11, 2007, we published a notice in the Federal Register (72 FR 37735-37740) inviting applications for new awards under the HSI Program.

We received a large number of high-quality applications and awarded 30 new grants from the slate. However, many applications that were given high scores by peer reviewers did not receive funding in FY 2007.

Based on the anticipated FY 2008 appropriation level, funding is expected for new awards under the HSI program. To conserve funding that would have been required for a peer review of new grant applications and to use those funds instead to support grant activities, we will select grantees in FY 2008 from the FY 2007 slate of applicants. This slate was developed during the FY 2007 competition using the selection criteria, application requirements, priorities, and definitions referenced in the notice inviting applications that was published in the Federal Register on July 11, 2007 (72 FR 37735). No changes to the selection criteria, application requirements, and definitions are required by this action.

The CCRAA (Pub. L. 110-84) provided $100 million for additional awards to Hispanic-serving institutions for FYs 2008 and 2009. Further information about the criteria and priorities applicable to these additional awards and the Secretary's plans for conducting the FY 2008 competition under the CCRAA, including workshops, will be forthcoming.

Note: All Individual Development grant applicants that received a peer review score of 96 or above in the FY 2007 HSI Program competition and did not receive funding in the FY 2007 competition for the HSI Program MUST apply for FY 2008 Title III/V eligibility to be eligible to receive a grant for FY 2008. We intend to publish the notice inviting applications for designation as an Eligible Institution under Title III and Title V of the Higher Education Act of 1965, as amended, for FY 2008 in January 2008.

Program Authority: 20 U.S.C. 1101-1101d, 1103-1103g.

Electronic Access to This Document: You may view this document, as well as all other documents of this Department published in the Federal Register, in text or Adobe Portable Document Format (PDF), on the Internet at the following site: www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: www.gpoaccess.gov/nara/index.html.

Dated: December 19, 2007.
Diane Auer Jones,
Assistant Secretary for Postsecondary Education.

[FR Doc. E7-24945 Filed 12-21-07; 8:45 am]

BILLING CODE 4000-01-P